DEPARTMENT OF HOMELAND SECURITY

Coast Guard

33 CFR Part 100

[Docket No. USCG-2022-0150]

Special Local Regulations; Seventh Coast Guard District, Blessing of the Fleet—Brunswick

AGENCY: Coast Guard, DHS.

ACTION: Notification of enforcement of regulation.

SUMMARY: The Coast Guard will enforce special local regulations for the 84th Annual Brunswick Blessing of the Fleet on May 7, 2022, to provide for the safety of life on navigable waterways during this event. Our regulation for marine events within the Seventh Coast Guard District identifies the regulated area for this event in Brunswick, GA. During the enforcement periods, the operator of any vessel in the regulated area must comply with directions from the Patrol Commander or any Official Patrol displaying a Coast Guard ensign.

DATES: The regulations in 33 CFR 100.701 will be enforced for the location identified in paragraph (d) Item 1 of Table 1 to § 100.701, from 11 a.m. until 4 p.m. on May 7, 2022.

FOR FURTHER INFORMATION CONTACT: If you have questions about this notification of enforcement, call or email MST1 Ashley Schad, Marine Safety Unit Savannah Office of Waterways Management, Coast Guard, 912-652-4188 extension 242, or email Ashley.M.Schad@uscg.mil.

SUPPLEMENTARY INFORMATION: The Coast Guard will enforce special local regulations in 33 CFR 100.701, Table 1 to § 100.701, paragraph (d), Item 1, for the 84th Annual Brunswick, Blessing of the Fleet regulated area from 11:00 a.m. to 4:00 p.m. on May 7, 2022. This action is being taken to provide for the safety of life on navigable waterways during this event. Our regulation for marine events within the Seventh Coast Guard District, § 100.701, Table 1 to § 100.701, paragraph (d), Item 1, specifies the location of the regulated area for the Annual Brunswick Blessing of the Fleet which encompasses portions of the Brunswick River from the start of the East branch of the Brunswick River (East Brunswick River) to the Golden Isles Parkway Bridge. During the enforcement periods, as reflected in § 100.701, if you are the operator of a vessel in the regulated area you must comply with directions from the Patrol Commander or any Official Patrol displaying a Coast Guard ensign.

In addition to this notification of enforcement in the Federal Register, the Coast Guard plans to provide notification of this enforcement period via the Local Notice to Mariners, and marine information broadcasts.

K.A. Broyles,
Commander, U.S. Coast Guard, Captain of the Port Savannah, GA.

[FR Doc. 2022-09230 Filed 4-28-22; 8:45 am]

BILLING CODE 9110-04-P